GULF COAST ECOSYSTEM RESTORATION COUNCIL

[Document ID: 112312015-1111-11]

Request for Applications for Funding for the 12/09/2015 Funded Priorities List

AGENCY: Federal Agency Name: Gulf Coast Ecosystem Restoration Council.

SUMMARY: This announcement provides guidance to members of the Gulf Coast Ecosystem Restoration Council (Council) to apply for funding under the Council-Selected Restoration Component of the Resources and Ecosystems Sustainability, Tourist Opportunities, and Revived Economies of the Gulf Coast States Act of 2012 (RESTORE Act) (33 U.S.C. 1321(t)(2)) to implement projects and programs approved on the 12/09/2015 Funded Priorities List (FPL) Addendum to the Initial Comprehensive Plan.

RFA Name: Council-Selected Restoration Component 12/09/2015 Funded Priorities List Grant and Interagency Agreement Application Requirements.

Announcement Type: Supplemental announcement to Council Member Summary Notice of Application Process for Council-Selected Restoration Component Projects and Programs, published on May 4, 2015 (80 FR 25294).

Funding Opportunity Number: GCC-FPL-16-001.

Fiscal Year: FY 2016 and 2017.

Catalog of Federal Domestic Assistance (CFDA) Number: 87.051 Gulf Coast Ecosystem Restoration Council Comprehensive Plan Component Program.

Funding Instrument: Grant or Interagency Agreement.

Funding Amount: $156,553,618.

Closing Date for Submissions: Applications are due by December 31, 2016. Eligible applicants may submit their applications for Council-Selected Restoration Component projects and programs beginning upon publication of the 12/09/2015 Funded Priorities List (FPL) Addendum to the Initial Comprehensive Plan and continuing through and including December 31, 2016.

Funding Opportunity Description: Through this announcement, members of the Gulf Coast Ecosystem Restoration Council (Council) may submit applications to fund projects and programs under the Council-Selected Restoration Component of the Resources and Ecosystems Sustainability, Tourist Opportunities, and Revived Economies of the Gulf Coast States Act of 2012 (RESTORE Act) (33 U.S.C. 1321(t)(2)). Council members include the Secretaries of the Departments of Agriculture, the Army, Commerce, the Interior, and Homeland Security, the Administrator of the U.S. Environmental Protection Agency, and the governors of the Gulf Coast States of Alabama, Florida, Louisiana, Mississippi, and Texas. The submission process is composed of two phases: (1) The submission of proposals to the Council for inclusion in a Funded Priorities List (FPL) (proposal phase), and (2) once a project or program has been approved by the Council for inclusion in an FPL, the submission of a grant or interagency agreement (IAA) application in order to receive funding (application phase).

The first phase of the process (proposal phase) is complete for the 12/09/2015 FPL. This announcement provides guidance to eligible entities on the necessary steps to complete the second phase of submitting their grant application if a proposal was selected for funding in the 12/09/2015 FPL (available at: https://www.restorethegulf.gov/sites/default/files/FPL_FINAL_Dec9Vote_EC_Library_Links.pdf).

Council members are the only entities eligible to submit applications under this funding announcement and are the only entities eligible to receive Council-Selected Restoration Component funds under grant awards or IAAs.

Full Announcement Text

Funding Opportunity Description

A. Program Description

Through this announcement, member agencies and States of the Gulf Coast Ecosystem Restoration Council (Council) may submit applications to fund projects and programs under the Council-Selected Restoration Component of the Resources and Ecosystems Sustainability, Tourist Opportunities, and Revived Economies of the Gulf Coast States Act of 2012 (RESTORE Act) (33 U.S.C. 1321(t)(2)). Council members include the Secretaries of the Departments of Agriculture, the Army, Commerce, the Interior, and Homeland Security, the Administrator of the U.S. Environmental Protection Agency, and the governors of the Gulf Coast States of Alabama, Florida, Louisiana, Mississippi, and Texas. The submission process is composed of two phases: (1) The submission of proposals to the Council for inclusion in a Funded Priorities List (FPL), (proposal phase) and (2) once a project or program has been approved by the Council for inclusion in an FPL, the submission of a grant application in order to receive grant funding (application phase). The first phase (proposal phase) was completed with the approval of an FPL by the Council on December 9, 2015 and publication of the FPL in the Federal Register on December 15, 2015. 80 FR 77585. This announcement provides guidance to eligible entities on the necessary steps to complete the second phase of submitting their grant application if a proposal was selected for funding in the 12/09/2015 FPL (available at: https://www.restorethegulf.gov/sites/default/files/FPL_FINAL_Dec9Vote_EC_Library_Links.pdf).

1. Background

Passed in July 2012, the RESTORE Act dedicates 80 percent of certain Clean Water Act administrative and civil penalties paid by responsible parties in connection with the DEEPWATER HORIZON oil spill to the Gulf Coast Restoration Trust Fund (Trust Fund). The RESTORE Act also outlines a structure by which the funds can be utilized to restore and protect the natural resources, ecosystems, fisheries, marine and wildlife habitats, beaches, coastal wetlands, and economy of the Gulf Coast region.

In order to carry out certain functions of the RESTORE Act, Congress established the Council, which is comprised of governors from the five affected Gulf Coast States (Alabama, Florida, Louisiana, Mississippi, and Texas); the Secretaries from the U.S. Departments of Agriculture, the Army, Commerce, the Interior, and Homeland Security; and the Administrator of the U.S. Environmental Protection Agency. The Gulf States recommended, and President Obama appointed, the Secretary of Commerce as the Council's initial Chairperson. The Council was tasked with publishing a Comprehensive Plan under which the Council will fund and implement projects and programs to restore and protect the natural resources, ecosystems, fisheries, marine and wildlife habitats, beaches, and coastal wetlands of the Gulf Coast region (known as the Council-Selected Restoration Component of the RESTORE Act). 33 U.S.C. 1321(t)(2).

The Council approved the Initial Comprehensive Plan in August of 2013 (available at: https://restorethegulf.gov/sites/default/files/Final%20Initial%20Comprehensive%20Plan.pdf). The Initial Comprehensive Plan guides decision-making related to the evaluation, approval, funding, and implementation of projects and programs under the Council-Selected Restoration Component of the RESTORE Act in the form of an FPL. On August 21, 2014, the Council published on its Web site, the Council Member Proposal Submission Guidelines for Comprehensive Plan Funded Priorities List of Projects and Programs (“Submission Guidelines”, available at https://www.restorethegulf.gov/sites/default/files/Submission_Guidelines_Final%20Aug%202014_0.pdf). These Guidelines outlined the process for the first phase of the submission process for the grants and interagency agreements (IAAs) that are the subject of this announcement. On May 4, 2015, the Council published the Council Member Summary Notice of Application Process for Council-Selected Restoration Component Projects and Programs which outlined the entire two-phase process for the Council-Selected Restoration Component. 80 FR 25294. Council members submitted proposals detailing projects and programs for possible inclusion in the first FPL. Submitted proposals were independently reviewed against a set of specific criteria; the results of this review are available online (https://www.restorethegulf.gov/council-selected-restoration-component/draft-initial-funded-priorities-list). Based on this independent review, the Council developed and approved a draft FPL and solicited public comment. After taking into account public comments, the initial FPL was approved by Council vote on December 9, 2015. The number and type of projects and programs contained in the initial 12/09/2015 FPL was based, in part, on the amount and timing of funds currently available in the Trust Fund.

As additional funds become available in the future, the Council will periodically request proposals from its eleven State and federal members in order to develop additional FPLs. The Council may also carry forward proposals submitted under prior requests for proposals when formulating future FPLs. Council members are the only entities eligible to submit proposals or receive Council-Selected Restoration Component funds under grant awards or IAAs.

Now that the Council has published the initial 12/09/2015 FPL, the Council will accept applications for grant awards from its five Gulf Coast State members or IAAs from its six federal agency members in order to fund each project and program included in the FPL.

The remainder of this Notice of Funding Opportunity details the requirements for grant and IAA applications to carry out the projects and programs in the FPL. Funding to State Council members will be provided through grants. Funding to federal Council members will be provided through IAAs.

2. Program Authority

33 U.S.C. 1321(t)(2).

B. Federal Award Information

The application phase is not competitive. Rather, once a proposal for a project or program has been selected under phase 1 (see section A(1) of this announcement for discussion of the proposal phase) the grants to be awarded (to State Council members) or IAAs are entered into (with federal agency Council members) through the administrative process detailed in this announcement.

All State Council member proposals selected for funding under phase 1 of this announcement must apply for a grant through the Restoration Assistance and Awards Management System (RAAMS) to implement the project or program described in the approved project proposal. All federal agency Council member proposals selected for funding under phase 1 of this announcement must submit an application through RAAMS prior to entering into an IAA to implement a project or program described in the approved project proposal.

1. Funding Availability

Up to $156,553,618 is available to fund grants and IAAs under this announcement. These funds are expected to fund 45 projects and programs. The exact number of grants and IAAs required to fund these 45 projects and programs depends on the State or federal member applicant. The Council may request an applicant split an application into more than one application for administrative efficiency. The amount of each grant or IAA will depend on the exact project(s) or program(s) contained therein. The amount is not to exceed the amount approved in the 12/09/2015 FPL.

2. Project/Award Period

The duration of projects and programs under this announcement is anticipated to be three to ten years; however, subject to Council approval projects may have a longer duration. Award start dates will depend on when the applicant submits a complete application.

3. Type of Funding Instrument

The funding instrument for awards to Council member States will be a grant. The funding mechanism for Council member federal agencies will be an IAA. Funding for contractual arrangements for services and products for delivery to the Council is not available under this announcement.

C. Eligibility Information

1. Eligible Applicants

Eligible applicants are limited to members of the Council, or their administrative agents, that have had a proposal selected for funding pursuant to phase 1, found in section (A)(1) of this announcement. Council members include: The States of Alabama, Florida, Louisiana, Mississippi, and Texas; the Departments of Agriculture, the Army, Commerce, Homeland Security and the Interior; and the Environmental Protection Agency. No other entity is eligible to apply under this announcement.

2. Cost Sharing or Matching Requirement

None.

3. Other Criteria That Affect Eligibility

Applications are limited to the category 1 restoration activities included in the 12/09/2015 FPL.

D. Application and Submission Information

1. Address To Request Application Package

Eligible entities can access the link to RAAMS and download application forms and other materials necessary to apply for funding through the RESTORE Council Web site at https://restorethegulf.gov/gcerc-grants-office.

2. Content and Form of Application for Awards and Agreements

Please refer to the Gulf Coast Ecosystem Restoration Council Recipient Proposal and Award Guide (RPAG) (available at: https://restorethegulf.gov/gcerc-grants-office) for comprehensive guidance on all phases of the submission, application, and award implementation process.

The following application requirements are for grants to Gulf Coast States and IAAs with federal Servicing Agencies. A complete application will include all of the below information, which is entered directly into RAAMS or uploaded as an attachment(s). Application material will include all data from required federal standard forms and may include Council-specific supporting information and schedules.

a. Data from OMB Standard Form (SF) SF-424A “Application for Federal Assistance” and associated forms.

b. Certifications:

i. RESTORE Council Applicant Certifications; and

ii. Appropriate SF-424 Assurances:

(1) For applications involving construction or real property/land acquisition, complete the SF-424D “Assurances—Construction Programs”.

(2) For non-construction applications, complete the SF-424B “Assurances—Non-Construction Programs”.

c. A copy of the applicant's Indirect Cost Rate Agreement (IDCRA), if applicable.

d. Executive Summary.

e. Project/Program Narrative:

i. Description of how the project/program meets statutory requirements and commitments the Council made in the Initial Comprehensive Plan including identification of objectives and goals as well as focus and emphasis areas.

ii. Metrics for gauging the success of the project or program.

iii. Milestones, including activity-based costs and any deliverables for each milestone.

iv. Description of leveraged resources.

f. Observational Data Plan.

g. Preliminary Data Management Plan.

h. Location information and map(s).

i. Budget documentation:

i. This documentation is more detailed than the budget required to be submitted in phase 1.

ii. SF-424 budget information:

(1) For all projects/programs, data equivalent to that provided on the SF-424A “Budget Information—Non-Construction Programs” is required.

(2) For construction projects or real property/land acquisition, data equivalent to that provided on the SF-424C “Budget Information—Construction Programs” is required in addition to the SF-424A data.

(3) Budget data must also be provided by SF-424A and/or SF-424C object classes for leveraged funding that is required to complete the objectives of the project/program (i.e., “co-funding”).

(4) Where the applicant will “pass through” or otherwise provide funds to one or more subrecipients, a separate detailed budget using object categories from the SF-424A and/or SF-424C, as appropriate, must be provided for each proposed subaward that is known at the time the application is submitted.

(5) Any program income anticipated during the award period should be included in the budget.

iii. Budget Narrative/Justification:

(1) A detailed description of the expenses listed on the budget forms and how they address the proposed work is required.

(2) Item descriptions and justifications must be provided for each applicable object class from the SF-424A and/or C, including salaries, fringe benefits, equipment, supplies, travel, construction, etc.

(3) Applicants who will not be requesting funds for salaries for contributing personnel, must still list those personnel, indicating their estimated time of commitment.

(4) Purchases of equipment greater than $5,000 must include a purchase versus lease justification.

(5) Where the applicant plans to procure goods and services through a contractual or subrecipient relationship, information is required on the proposed method of selection, period of performance scope of work, and method(s) of accountability.

(6) A description of any leveraged funding that is required to complete the objectives of the project/program must be provided, including the source(s), amount of funding and work to be accomplished.

(7) Detailed information must be provided regarding any pre-award costs requested including a justification for each item. Such costs are allowable only to the extent that they would have been allowable if incurred after the grant award date and only with the written approval of the Grants Officer. All costs incurred before the Council awards the grant are at the recipient's risk. Requests for pre-award costs should be kept to a minimum. Generally, the period for such costs should not exceed 90 days prior to the start of the award period.

j. Cash Forecasting. The applicant must forecast cash requirements/draws throughout the life of the award in semi-annual increments.

k. Current and pending support. Applicants must submit a list of all current and pending federal support that includes project title, supporting agency with grant number, dollar value, and duration. Requested values should be listed for pending support.

l. DUNS Number. All applications must have a DUNS (Dun and Bradstreet Data Universal Numbering System) number when applying for federal grants. No application is deemed complete without the DUNS number, and only the Office of Management and Budget (OMB) may grant exceptions.

m. Environmental Compliance Documentation. The Council must comply with the National Environmental Policy Act, Endangered Species Act, National Historic Preservation Act, Magnuson-Stevens Fishery Conservation and Management Act and the Fish and Wildlife Coordination Act, as applicable, before approving funding under the Council-Selected Restoration Component. In addition, the Council must address, as applicable, Executive Order 11988 (“Floodplain Management”), Executive Order 11990 (“Protection of Wetlands”), Executive Order 12898 (“Environmental Justice in Minority Populations and Low Income Populations”) and Executive Order 13653 (“Preparing the United States for the Impacts of Climate Change”). These laws and Executive Orders requirements have been addressed, where applicable, for all activities listed in Category 1 of the FPL. Documentation regarding compliance with the foregoing requirements for each FPL Category 1 activity can be found on the Council Web site (available at https://www.restorethegulf.gov/funded-priorities-list). Prior to awarding a grant or entering into an IAA under the Council-Selected Restoration Component, the Council must also comply with the Coastal Zone Management Act, Coastal Barrier Resources Act and Farmland Protection Policy Act, as applicable. Applicants should submit information indicating whether the above requirements have been met, and if not, the status of any efforts to meet the requirements. Applicants are also responsible for complying with all other applicable federal environmental laws prior to full disbursement of grant or IAA funding. Specifically, applicants are responsible for identifying other applicable federal environmental laws and providing the Council with information regarding compliance with such laws.

i. Applicants may be required to provide detailed information on the activities to be conducted, locations, sites, species, and habitat to be affected, possible construction activities, and any environmental concerns that may exist (e.g., the use and disposal of hazardous or toxic chemicals, introduction of non-indigenous species, impacts to endangered and threatened species, aquaculture projects, and impacts to coral reef systems).

ii. Applicants may also be required to cooperate with the Council in identifying feasible measures to reduce or avoid any identified adverse environmental impacts of their application. Any failure to do so shall be grounds for deeming an application incomplete. In some cases if additional information is required after an application is submitted, funds may be withheld by the Grants Officer pursuant to a special award condition requiring the recipient to submit additional environmental compliance information sufficient to enable the Council to make an assessment of any impacts that a project may have on the environment.

iii. Applicants also must submit documentation to the Council demonstrating that all applicable permits or authorizations from other state, federal or local agencies have been secured. Funds may be withheld by the Grants Officer pursuant to a special award condition requiring the recipient to submit all required permits and authorizations prior to implementation.

Additional requirement for State applications for grant funding:

Organizational Self-Assessment (OSA). Each non-federal applicant must certify and submit the Council's Organizational Self-Assessment form. The form must be received by the Council no later than the application submission date of the entity's first grant application to the Council. The OSA will be updated annually.

Additional requirements for IAAs with Federal Servicing Agencies:

A completed and approved application will be followed by an IAA. The IAA will contain information indicating whether the above requirements have been met, and if not, the status of any efforts to meet the requirements. Servicing Agencies are also responsible for all applicable federal environmental laws and requirements prior to full disbursement of grant or interagency agreement funding.

All applicants are required to: (i) Be registered in the System for Award Management (SAM) before submitting its application; (ii) provide a valid unique entity identifier in its application; and (iii) continue to maintain an active SAM registration with current information at all times during which it has an active federal award or an application or plan under consideration by a federal awarding agency. The Council will not make an award to an applicant until the applicant has complied with all applicable unique entity-identifier and SAM requirements and, if an applicant has not fully complied with the requirements by the time the Council is ready to make a Federal award, the Council may determine that the applicant is not qualified to receive an award.

4. Submission Dates and Times

Subject to Section D.7 below, applications may be submitted at any time after publication of the initial FPL but no later than December 31, 2016. Applications will be accepted on a rolling basis and are to be submitted through RAAMS.

5. Intergovernmental Review

Applications under this program are not subject to Executive Order 12372, Intergovernmental Review of Federal Programs.

6. Funding Restrictions

Of the amounts received by an eligible entity in a grant or IAA under this announcement, not more than three percent (3%) may be used for administrative costs. The three percent limit is applied to the total amount of funds received by a recipient under each grant or IAA. The three percent limit does not apply to the administrative costs of subrecipients. All subrecipient costs are subject to the cost principles in federal law and policies on grants. Administrative costs means those indirect costs for administration incurred by the eligible entity that are allocable to activities authorized under the Act. Administrative costs do not include indirect costs that are identified specifically with, or readily assignable to, facilities as defined in 2 CFR 200.414. See the https://restorethegulf.gov/gcerc-grants-office/gcerc-grants-resources Web page for an example of administrative cost calculations.

Fees and profit are disallowed.

7. Other Submission Requirements

Applications will be completed and submitted electronically by way of the Council's Restoration Assistance and Award Management System (RAAMS) (https://raams.restorethegulf.gov). Applicants will not be eligible to submit an application until they have completed RAAMS training. There will be multiple training opportunities available starting in January 2016.

E. Application Review Information

1. Criteria

At the organizational level, the Council will conduct risk assessments of first-time non-federal recipients in order to effectively implement the statutory, regulatory, administrative, and program requirements of a potential federal award. Once an initial assessment has been made, it will be reviewed on an annual basis. As the Council-Selected Restoration Component of the RESTORE Act is a new federal program, all non-federal recipients will be treated as first-time recipients for the initial Council awards.

Upon receipt of an application through RAAMS, the Council will review the application for completeness. Once it has been determined that the application is complete, the staff will review this funding opportunity announcement, the application and supporting documentation, the System for Award Management, and any other information available to determine the following:

• Whether the recipient and any subrecipients are eligible for funding;

• Whether the project or program as described in the application is compliant with the proposal contained in the FPL or the Full SEP, whichever is applicable;

• Whether award activities are eligible and attainable;

• Whether staff time is appropriate to perform proposed tasks;

• Whether best available science is applied;

• Whether the recipient has established a suitable monitoring plan;

• Whether milestones and metrics are feasible, measurable and achievable;

• Whether observational data and management plans are adequate (if applicable);

• Whether environmental compliance requirements have been met;

• Whether budget line items are allowable, allocable, and reasonable;

• Whether any proposed procurement complies with applicable laws and policies;

• Whether budget line items are accurately calculated;

• Whether pre-award costs are requested, and if so, is the documentation sufficient;

• Whether the period of performance requires an adjustment; and

• Whether any special award conditions are needed.

2. Review and Selection Process

The review and selection process was completed with the approval of an FPL on 12/09/2015 and publication of the FPL in the Federal Register on December 15, 2015. 80 FR 77585. However, the detailed project or program narrative description of activities will be closely reviewed and compared to the project narrative description submitted in the initial proposal to verify the scope of the activities in the application.

3. Agency Review of Information Concerning Recipient Integrity and Performance

The Council is required to review and consider any information about the applicant that is in the designated integrity and performance system accessible through SAM (currently FAPIIS) (see 41 U.S.C. 2313). The applicant may, at its option, review information in the designated integrity and performance systems accessible through SAM and comment on any information about itself that a federal awarding agency previously entered and is currently in the designated integrity and performance system accessible through SAM. Furthermore, the Council consider any comments by the applicant, in addition to the other information in the designated integrity and performance system, in making a judgment about the applicant's integrity, business ethics, and record of performance under federal awards when completing the review of risk posed by applicants as described in 2 CFR 200.205, “Federal awarding agency review of risk posed by applicants.”

4. Anticipated Announcement and Award Dates

Applications will be received on a rolling basis. It is anticipated that awards will be made within 90 days of submission of a complete grant application.

F. Award Administration Information

1. Federal Award Notices

a. For State Council members, official notification of grant funding, signed by the Council Executive Director, is the authorizing document that allows the project or program to begin. Notifications will be issued to the Authorizing Official designated by the Council member for the project or program.

b. For federal Council members, an IAA is the mechanism for transferring funds from the Council to the member agency. IAAs will be executed and finalized in accordance with applicable federal requirements. All federal Council members having proposals selected for funding under phase 1 of this announcement must work with the Council to establish an IAA. Pursuant to 31 CFR 34.803(d), any federal Council member (“Servicing Agency”) must use funds only for the purposes identified in the IAA. All activities under the IAA must meet the eligibility requirements for the Council-Selected Restoration Component as defined in 31 CFR 34.202.

c. The Servicing Agency, and all non-federal entity recipients and subrecipients, must comply and require each of its contractors and subcontractors employed in the completion of the project to comply with all applicable statutes, regulations, Executive Orders (E.O.s), Office of Management and Budget (OMB) circulars, terms and conditions, agreements and approved applications. Any inconsistency or conflict in terms and conditions specified in the IAA will be resolved according to the following order of precedence: Public laws, regulations, applicable notices published in the Federal Register, E.O.s, OMB circulars, and the IAA's terms and conditions. The Servicing Agency shall also administer the project in compliance with the Servicing Agency's existing statutes, regulations, and grant policies.

2. Administrative and National Policy Requirements

The Council Pre-Award Notification Requirements for Grants and Cooperative Agreements contained in the Federal Register notice of November 24, 2014 (https://federalregister.gov/a/2014-27719) is applicable to this announcement.

The Council's Financial Assistance Standard Terms and Conditions (STCs) contained in the Federal Register notice of August 31, 2015 (https://federalregister.gov/a/2015-21417) are applicable to grants awarded under this announcement. The Council's IAA Standard Terms and Conditions (IAA STCs) are applicable to IAAs executed under this announcement. Both the STCs and the IAA STCs may be found at https://restorethegulf.gov/resources/council-documents-foia-library.

3. Reporting

Award recipients are required to submit financial, technical progress, performance and outcome reports. These reports are to be submitted electronically via RAAMS.

Reporting Periods: Semi-annual reporting periods will be specified in the award for either the periods ending:

• March 31 and September 30, or any portion thereof; or

• June 30 and December 31, or any portion thereof.

Due Dates: Semi-annual performance reports are due no later than 30 days following the end of each reporting period. A final performance report is due within 90 days after the expiration of the project period.

As part of the required Data Management Plan (DMP), the recipient will develop a data/information management plan and submit appropriate data and information with progress reports on a yearly basis. Due dates will be included in the award agreement.

Applicants must also comply with the Federal Funding Accountability and Transparency Act of 2006. This Act includes a requirement for awardees of applicable federal grants to report information about first-tier sub-awards and executive compensation under federal assistance awards issued in FY 2011 or later. All awardees of applicable grants and cooperative agreements are required to report to the Federal Sub-award Reporting System (FSRS) available at www.FSRS.gov on all sub-awards over $25,000.

If the award will include more than $500,000 over the period of performance, applicants must also comply with the post award reporting requirements reflected in 2 CFR part 200 Appendix XII—Award Term and Condition for Recipient Integrity and Performance Matters.

G. Agency Contacts

Kristin Smith, Senior Grants Management Officer, kristin.smith@restorethegulf.gov, 504-444-3558.

H. Other Information

Please refer to the Gulf Coast Ecosystem Restoration Council Recipient Proposal and Award Guide (RPAG), available at https://restorethegulf.gov/gcerc-grants-office, for comprehensive guidance on all phases of the submission, application, and award implementation process.

Will D. Spoon,
Program Analyst, Gulf Coast Ecosystem, Restoration Council.

[FR Doc. 2015-32924 Filed 12-30-15; 8:45 am]

BILLING CODE P